OFFICE OF THE UNITED STATES TRADE REPRESENTATIVE

Generalized System of Preferences (GSP): Accession of Bulgaria and Romania to the European Union (EU) and Loss of GSP Eligibility

AGENCY: Office of the United States Trade Representative (USTR).

ACTION: Notice.

SUMMARY: As a result of becoming EU Member States on January 1, 2007, Bulgaria and Romania are no longer designated as beneficiary developing countries under the U.S. GSP program, effective as of that date.

FOR FURTHER INFORMATION CONTACT: GSP Subcommittee, Office of the United States Trade Representative, USTR Annex, 1724 F Street, NW., Room F220, Washington, DC 20508. The telephone number is 202-395-6971.

SUPPLEMENTARY INFORMATION: The GSP program is authorized pursuant to title V of the Trade Act of 1974, as amended (“the Trade Act”) (19 U.S.C. 2461 et seq.). The GSP program grants duty-free treatment to designated eligible articles that are imported from designated beneficiary developing countries. Countries that may not be designated as beneficiary countries for purposes of the GSP include, among others, EU Member States (19 U.S.C. 2462(b)). In Proclamation 8098 (December 29, 2006), the President, pursuant to section 502(b)(1)(C) of the Trade Act of 1974, as amended (19 U.S.C. 2462(b)(1)(C)), announced that “Bulgaria and Romania shall no longer be designated as beneficiary developing countries for GSP upon the date that each country becomes a European Union Member State. The United States Trade Representative shall announce each such date in a notice published in the Federal Register.” The United States Trade Representative hereby announces that January 1, 2007, was the date on which Bulgaria and Romania became EU Member States and are no longer beneficiary developing countries for GSP.

Susan C. Schwab,
United States Trade Representative.

[FR Doc. E7-809 Filed 1-19-07; 8:45 am]

BILLING CODE 3190-W7-P